DEPARTMENT OF STATE

[Public Notice 5109]

In the Matter of the Amended Designation of Lashkar-e-Tayyiba (LT, LeT), aka Lashkar-e-Toiba, aka Lashkar-i-Taiba, aka al Mansoorian, aka al Mansooreen, aka Army of the Pure, aka Army of the Righteous, aka Army of the Pure and Righteous as a Foreign Terrorist Organization Pursuant to Section 219(b) of the Immigration and Nationality Act

Based upon a review of the Administrative Record assembled in this matter, and in consultation with the Attorney General and the Secretary of the Treasury, the Secretary of State has concluded that there is a sufficient factual basis to find that Lashkar-e-Tayyiba, also known under the aliases listed above, uses or has used additional aliases, namely, Paasban-e-Kashmir, Paasban-i-Ahle Hadith, Pasban-e-Kashmir, Pasban-e-Ahle Hadith, and Paasban-e-Ahle Hadis.

Therefore, effective upon the date of publication in the Federal Register, the Secretary of State hereby amends the 2003 redesignation of Lashkar-e-Tayyiba as a foreign terrorist organization, pursuant to section 219(b) of the INA (8 U.S.C. 1189(b)), to include the following new aliases and other possible transliterations thereof: Paasban-e-Kashmir, Paasban-i-Ahle Hadith, Pasban-e-Kashmir, Pasban-e-Ahle-Hadith, Paasban-e-Ahle Hadis.

Dated: June 12, 2005.
Karen Aguilar,
Acting Coordinator for Counterterrorism, Department of State.

[FR Doc. 05-12012 Filed 6-16-05; 5:00 pm]

BILLING CODE 4710-10-P